NUCLEAR REGULATORY COMMISSION

[Docket No. 70-1151]

Environmental Assessment and Final Finding of No Significant Impact of License Amendment for Westinghouse Electric Company LLC

AGENCY: Nuclear Regulatory Commission.

ACTION: Amendment of Westinghouse Electric Company LLC, Materials License SNM-1107 to exempt the licensee from the fissile material package standards for shipment of certain bulk materials (e.g. radwaste) containing low concentrations of uranium-235 contamination and to impose limits on these shipments.

The U.S. Nuclear Regulatory Commission is considering the amendment of Special Nuclear Material License SNM-1107 to exempt the licensee from the fissile material package standards for shipment of certain bulk materials (e.g. radwaste) containing low concentrations of uranium-235 contamination at the Westinghouse Electric Company LLC facility located in Columbia, SC, and to impose limits on these shipments, and has prepared an Environmental Assessment in support of this action.

Environmental Assessment

1.0 Introduction

1.1 Background

The Nuclear Regulatory Commission (NRC) staff has evaluated the environmental impacts of the exemption of Westinghouse Electric Company from the fissile material package standards for shipment of certain bulk materials (e.g. radwaste) containing low concentrations of uranium-235 contamination, with limits placed on the shipments to ensure adequate controls for nuclear criticality safety. This Environmental Assessment (EA) has been prepared pursuant to NRC regulations (10 CFR Part 51) which implement the requirements of the National Environmental Policy Act (NEPA) of 1969. The purpose of this document is to assess the environmental consequences of the proposed license amendment.

The Westinghouse facility in Columbia, SC, is authorized under NRC Materials License SNM-1107 to manufacture nuclear reactor fuel utilizing Special Nuclear Material (SNM), specifically low-enriched uranium, and to receive, possess, use, store and transfer source material. These activities generate low-level, radioactive waste. Examples of this waste include, but are not limited to, dry activated waste such as pipes, building debris, insulation, wire, concrete, plastic, ductwork, cabinets, furniture, and some flowable materials like dirt and blasting sand.

1.2 Review Scope

In accordance with 10 CFR Part 51, this EA serves to (1) present information and analysis for determining whether to issue a Finding of No Significant Impact (FONSI) or to prepare an Environmental Impact Statement (EIS); (2) fulfill the NRC's compliance with the National Environmental Policy Act (NEPA) when no EIS is necessary; and (3) facilitate preparation of an EIS if one is necessary. Should the NRC issue a FONSI, no EIS would be prepared.

1.3 Proposed Action

The proposed action is to amend NRC Materials License SNM-1107 to exempt the licensee from the fissile material package standards for shipment of certain bulk materials containing low concentrations of uranium-235 contamination and to impose limiting conditions to ensure adequate controls for nuclear criticality safety. These materials would be exempt from fissile material classification and the fissile material package standards of 10 CFR 71.55 and 71.59, but subject to other requirements of 10 CFR part 71 and the further limiting conditions. A Safety Evaluation Report (SER) has been prepared by the NRC staff and contains a discussion of the safety considerations for approval of the amendment. The SER will be included in the license amendment when it is issued.

1.4 Need for Proposed Action

Westinghouse is currently manufacturing nuclear reactor fuel at its Columbia, SC facility. It is requesting the exemption for transportation of low level radioactive waste (LLRW) generated during normal, routine operations. The reason for this request is to better utilize shipping containers and transportation.

On February 10, 1997, the NRC issued an emergency direct final rule (62 FR 5913) changing the fissile material exemption specifications of 10 CFR part 71. The revised rule limits the fissile-material mass in a consignment and restricts the presence of select moderators with very low neutron-absorption properties (i.e., special moderators). Under this rule, specifically 10 CFR 71.53(a), Westinghouse is limited to 400 grams of U-235 per consignment. The imposition of this 400-gram U-235 limit per consignment increases the number of shipments required to dispose of LLRW.

Westinghouse must make many small LLRW shipments to comply with the current SNM limits. With this amendment, Westinghouse will be able to utilize the entire volume of a strong-tight, twenty-foot sea/land van; thus, shipping, in one shipment, LLRW that currently takes ten shipments. Therefore, Westinghouse submitted this license amendment request for a specific exemption from the requirements of 10 CFR 71.55 and 71.59 for specified SNM shipments with greater than 400 grams U-235 per consignment.

On April 15, 2002, the Westinghouse facility in Hematite, MO (SNM-33), received a fissile material exemption for use in decommissioning the Hematite facility (NRC, 2002). This action requests the same exemption for the Columbia, SC facility (SNM-1107).

1.5 Alternatives to the Proposed Action

No Action (i.e., deny the request).

2.0 Affected Environment

The affected environment for the proposed action would be the immediate vicinity of the vehicle used to transport the material to a licensed disposal facility.

The affected environment for no action is the Westinghouse site. A full description of the site and its characteristics is given in the 1995 Environmental Assessment for the Renewal of the NRC license for Westinghouse (NRC, 1995). The Westinghouse facility is located on a site of about 1200 acres in Richland County, South Carolina, approximately 8 miles southeast of the city of Columbia.

3.0 Environmental Impacts of Proposed Action and Alternatives

3.1 Occupational and Public Health

Proposed Action

The risk to human health from the transportation of all radioactive material in the U.S. was evaluated in the Final Environmental Impact Statement on the Transportation of Radioactive Material by Air and Other Modes (NRC, 1977). The principal radiological environmental impact during normal transportation is direct radiation exposure to nearby persons from radioactive material in the package. The average annual individual dose from all radioactive material transportation in the U.S. was calculated to be approximately 0.5 mrem, well below the 10 CFR Part 20 requirement of 100 mrem for a member of the public. The proposed action would result in fewer shipments. Fewer shipments would expose fewer members of the public to radiation, reduce nonradiological truck emissions, and reduce the risk of injuries from traffic accidents. However, the reductions would be so small that the differences would be negligible.

Occupational health was also considered in the Final Environmental Impact Statement on the Transportation of Radioactive Material by Air and Other Modes (NRC, 1977). The average annual occupational dose to the driver(s) is estimated to be 8.7 mSv (870 mrem), which is below the 10 CFR Part 20 requirement of 50 mSv (5000 mrem). The Department of Transportation (DOT) regulations in 49 CFR 177.842(g) require that the radiation dose rate may not exceed 0.02 mSv (2 mrem) per hour in any position normally occupied in a motor vehicle. The proposed action would not cause dose rates to the driver exceeding the DOT limit.

The NRC staff evaluated the possibility of a criticality accident due to transportation of this material. Based on the statements and representations in the application, the staff concluded that limiting the contents as described in the application will provide adequate assurance that an inadvertent criticality cannot occur if the materials are exempt from the fissile material classification and fissile material package standards of 10 CFR 71.55 and 71.59. A detailed discussion of this analysis can be found in the Safety Evaluation Report for this amendment.

Under the proposed action, the doses to the public and to the workers are not increased beyond those considered in the Final Environmental Impact Statement on the Transportation of Radioactive Material by Air and Other Modes (NRC, 1977). Therefore, shipment of these materials as proposed would be consistent with the assessment of environmental impacts and the conclusions in the Final Environmental Impact Statement on the Transportation of Radioactive Material by Air and Other Modes (NRC, 1977).

No Action

Denying this amendment request would not result in any significant difference in the risk to the public health from radiological materials. If this amendment request is denied, the licensee would be required to ship the contaminated waste more frequently in smaller containers. The larger number of shipments also is consistent with the assessment of environmental impacts and the conclusions in the Final Environmental Impact Statement on the Transportation of Radioactive Material by Air and Other Modes (NRC, 1977). As noted above, the level of nonradiological truck emissions and the risk of injuries from traffic accidents would be higher, but the differences would be negligible.

The occupational health impacts would not change significantly as a result of denial of this amendment request. Occupational doses at the facility may be slightly higher as a result of the larger number of packages that workers must prepare and handle; however, the facility will continue to implement NRC-approved, radiation safety procedures for handling radioactive materials. Thus, the dose to workers under the no action alternative will remain within acceptable regulatory limits.

3.2 Effluent Releases, Environmental Monitoring, Water Resources, Geology, Soils, Air Quality, Demography, Biota, Cultural and Historic Resources

Proposed Action

The NRC staff has determined that the approval of the proposed amendment will not impact effluent releases, environmental monitoring, water resources, geology, soils, air quality, demography, biota, or cultural or historic resources under normal transport conditions.

No Action

The NRC staff has determined that denial of the proposed amendment will not impact effluent releases, environmental monitoring, water resources, geology, soils, air quality, demography, biota, or cultural or historic resources at or near the Westinghouse site.

3.3 Conclusions

Based on its review, the NRC staff has concluded that the environmental impacts associated with the proposed action are not significant and, therefore, do not warrant denial of the license amendment request. The staff has determined that the proposed action, approval of the license amendment request as submitted, is the appropriate alternative for selection. Based on an evaluation of the environmental impacts of the amendment request, the NRC has determined that the proper action is to issue a FONSI in the Federal Register.

4.0 Agencies and Persons Contacted

The NRC provided the draft Environmental Assessment and FONSI to staff from the South Carolina Department of Health and Environmental Control (DHEC) on September 27, 2002. NRC staff provided the licensee's exemption request and NRC's Safety Evaluation Report supporting the exemption. During a conference call with DHEC staff on October 17, 2002, NRC staff confirmed that the proposed action would not affect the regulation in 10 CFR 70.42 requiring Westinghouse to verify that waste disposal facilities are authorized to receive their shipments. DHEC had no comments or concerns with the proposed action.

Because the proposed action is entirely within existing facilities and roadways, the NRC has concluded that there is no potential to affect endangered species or historic resources, and therefore consultation with the State Historic Preservation Society and the U.S. Fish and Wildlife Service was not necessary.

5.0 References

U.S. Nuclear Regulatory Commission (NRC), December 1977, “Final Environmental Impact Statement on the Transportation of Radioactive Material by Air and Other Modes.”

U.S. Nuclear Regulatory Commission (NRC), July 1995, “Environmental Assessment for Renewal of Special Nuclear Material License SNM-1107.”

U.S. Nuclear Regulatory Commission (NRC), April 2002, “Westinghouse Electric Company, LLC, Hematite Amendment 41 to Authorize Exemption to Fissile Material Classification and Package Standards in Transport,” ADAMS no. ML021060797.

Final Finding of No Significant Impact

The Commission has prepared the above Environmental Assessment related to the amendment of Special Nuclear Material License SNM-1107. On the basis of the assessment, the Commission has concluded that environmental impacts associated with the proposed action would not be significant and do not warrant the preparation of an Environmental Impact Statement. Accordingly, it has been determined that a Finding of No Significant Impact is appropriate.

In accordance with 10 CFR 2.790 of the NRC's “Rules of Practice,” the Environmental Assessment and the documents related to this proposed action will be available electronically for public inspection from the Publicly Available Records (PARS) component of NRC's document system (ADAMS). ADAMS is accessible from the NRC Web site at http://www.nrc.gov/reading-rm/adams.html (the Public Electronic Reading Room).

The NRC contact for this licensing action is Kevin M. Ramsey, who may be contacted at (301) 415-7887 or by e-mail at kmr@nrc.gov for more information about the licensing action.

Dated at Rockville, Maryland, this 29th day of November 2002.
For the Nuclear Regulatory Commission.
Daniel M. Gillen,
Acting Director, Division of Fuel Cycle Safety and Safeguards, Office of Nuclear Material Safety and Safeguards.

[FR Doc. 02-31001 Filed 12-6-02; 8:45 am]

BILLING CODE 7590-01-P